DEPARTMENT OF HOMELAND SECURITY

[DHS-2016-0012]

Homeland Security Science and Technology Advisory Committee Meeting

AGENCY: Science and Technology Directorate, DHS.

ACTION: Committee Management; Notice of Federal Advisory Committee Meeting.

SUMMARY: The Homeland Security Science and Technology Advisory Committee (HSSTAC) will meet on March 10-11, 2016 in Washington, DC. The meeting will be both in-person and virtual (webinar)—open session.

DATES: The HSSTAC will meet in-person on Thursday, March 10, 2016, from 9:30 a.m.-4:00 p.m. and Friday, March 11, 2016, from 9:00 a.m.-3:00 p.m.

Due to security requirements, screening pre-registration is required for this event. Please see registration information below. Also, please note the meeting may close early if the committee has completed its business.

ADDRESSES: Department of Homeland Security, 1120 Vermont Avenue NW., 8th Floor, Washington DC, 20005.

Virtual Meeting

For information on services for individuals with disabilities or to request special assistance at the meeting, please contact Bishop Garrison as soon as possible. If you plan to attend the meeting in-person you must RSVP by Tuesday, March 8, 2016. To register, send an email to HSSTAC@hq.dhs.gov with the following subject line: RSVP to HSSTAC Meeting. The email should include the name(s), title, organization/affiliation, email address, and telephone number of those interested in attending.

To pre-register for the virtual meeting (webinar) please send an email to: HSSTAC@hq.dhs.gov. The email should include the name(s), title, organization/affiliation, email address, and telephone number of those interested in attending.

To facilitate public participation, we invite public comment on the issues to be considered by the committee as listed in the SUPPLEMENTARY INFORMATION below. Written comments must be received by February 25, 2016. Please include the docket number (DHS-2016-0012) and submit via one of the following methods:

• Federal eRulemaking Portal: http://www.regulations.gov. Follow the instructions for submitting comments.

• Email: HSSTAC@hq.dhs.gov. Include the docket number in the subject line of the message.

• Fax: 202-254-6176.

• Mail: Bishop Garrison, HSSTAC Executive Director, S&T IAO STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2016-0012.

A period is allotted for public comment on March 10 and March 11, 2016 at the end of each open session. Please note that the public comment period may end before the time indicated, following the last call for comments. To register as a speaker, contact the person listed below.

FOR FURTHER INFORMATION CONTACT: Bishop Garrison, HSSTAC Executive Director, S&T IAO STOP 0205, Department of Homeland Security, 245 Murray Lane, Washington, DC 20528-0205, 202-254-5617, (Office), 202-254-6176 (Facsimile) mbishop.garrison@hq.dhs.gov (Email).

SUPPLEMENTARY INFORMATION: Notice of this meeting is given under section 10(a) of the Federal Advisory Committee Act (FACA), 5 U.S.C. Appendix (Pub. L. 92-463). The committee addresses areas of interest and importance to the Under Secretary for Science and Technology, such as new developments in systems engineering, cyber-security, knowledge management and how best to leverage related technologies funded by other federal agencies and by the private sector. It also advises the Under Secretary on policies, management processes, and organizational constructs as needed.

Agenda: Day 1: The morning session will cover the HSSTAC deliverables, specifically a whitepaper on an interdisciplinary approach to resilience. Comments and questions from the public will follow the first session. The second morning session will be a panel discussion on the new face of research and development and emerging issues in the science and technology field, followed by questions and comments from the public. The afternoon session will consist of discussions with Dr. Reginald Brothers, Under Secretary for Science and Technology. Topics include major issues from DHS S&T leadership in each of the following divisions: Research and Development Partnerships (RDP), First Responder Group (FRG), Capability Development Support (CDS) and Homeland Security Advanced Research Projects Agency (HSARPA). The rest of the afternoon will consist of breakout sessions for discussion on the issues presented earlier by S&T leadership. This session will be followed by questions and comments from the public. Day 2: The morning session will begin with a small working group session focused on developing whitepapers, implementation plans, and tangible recommendations from the HSSTAC. The afternoon session will include a continuation of the breakout session, followed by a presentation of an executive summary of the group's discussions. This session will be followed by questions and comments from the public. The committee will then deliberate on any preliminary recommendations, and formulate initial recommendations on the science and technology issues presented earlier.

Dated: February 22, 2016.
Bishop Garrison,
Executive Director, Homeland Security Science and Technology Advisory Committee.

[FR Doc. 2016-04068 Filed 2-24-16; 8:45 am]

BILLING CODE 9110-9F-P